ENVIRONMENTAL PROTECTION AGENCY

40 CFR Parts 141 and 142

[FRL-6587-8]

RIN 2040-AA97

Ground Water Rule Public Meeting

AGENCY: Environmental Protection Agency (EPA).

ACTION: Notice of public meeting.

SUMMARY: Notice is hereby given that the Environmental Protection Agency (EPA) is holding a public meeting on May 18, 2000 in the EPA auditorium in Washington, DC. The meeting will provide a description and summary of the proposed Ground Water Rule (GWR) to be published in the Federal Register on May 10, 2000.

EPA is inviting all interested members of the public to attend the meeting. EPA is instituting an open door policy to allow any member of the public to attend the meeting for any length of time. Approximately 150 seats will be available for the public. Seats will be available on a first-come, first served basis.

DATES: The meeting will start at 2 PM on May 18, 2000 and will adjourn at 4:00 PM.

ADDRESSES: The meeting will be held in the EPA auditorium located at 401 M Street SW, Washington, DC 20460.

For information about the meeting, contact the Office of Ground Water and Drinking Water (MC 4607), U.S. Environmental Protection Agency, 1200 Pennsylvania Ave. NW, Washington, DC 20460; telephone (202) 260-3309. The GWR proposal, GWR fact sheet, and GWR draft implementation guidance may be obtained from www.epa.gov/safewater or by calling the Safe Drinking Water Hotline, telephone (800) 426-4791.

FOR FURTHER INFORMATION CONTACT: For general information, contact the Safe Drinking Water Hotline, telephone (800) 426-4791. The Safe Drinking Water Hotline is open Monday through Friday, excluding Federal holidays, from 9 a.m. to 5:30 p.m. Eastern Time.

Dated: April 28, 2000.
Cynthia C. Dougherty,
Director, Office of Ground Water and Drinking Water.

[FR Doc. 00-11136 Filed 5-3-00; 8:45 am]

BILLING CODE 6560-50-P